DEPARTMENT OF ENERGY

Federal Energy Regulatory Commission

[Project No. 2618-015-Maine]

Domtar Maine Corporation; Notice Soliciting Applications

December 21, 2005.

On August 21, 1995, Georgia-Pacific Corporation, the licensee for the West Branch Project No. 2618, filed a notice of intent to file an application for a new license, pursuant to section 15(b)(1) of the Federal Power Act (FPA).¹ The original license was issued September 4, 1980, became effective April 1, 1962, and expired September 30, 2000. The project is currently operating under an annual license.² The project is a storage reservoir located on the St. Croix River in Washington County, Maine.

¹ The project was transferred to Domtar Maine Corporation (Domtar) on October 26, 2001. 97 FERC ¶ 62,078.

² Notice authorizing continued project operation was issued October 17, 2000.

The West Branch Project includes two developments, West Grand Lake and Sysladobsis Lake. The West Grand Lake development consists of a 13-foot-high, 485-foot-long dam and a 23,825-acre reservoir. The Sysladobsis Lake development consists of a 5.5-foot-high, 25-foot-long dam and a 5,400-acre reservoir. There are no generating facilities at either of these developments. Water flows from the Sysladobsis Lake development to the West Grand Lake development, and from there travels ten miles downstream to the Grand Falls project and on to the Woodland project. The Grand Falls and Woodland Projects, both of which generate electricity, have been found not to require licensing, because they were authorized by a 1916 Act of Congress that predated the 1920 enactment of what is now part I of the FPA.³

³ 39 Stat. 534. 45 FERC ¶ 62,070 and 45 FERC ¶ 62,071.

Pursuant to § 16.9 of the Commission's regulations, the deadline for filing an application for new license and any competing license application was September 30, 1998. No application for license for this project was filed. Normally, pursuant to section 16.25 of the Commission's regulations, the Commission would solicit applications from potential applicants other than the existing licensee. However, the Commission's Order On Rehearing, On Clarification, and Lifting Stay,⁴ concludes that it would be in the public interest to allow Domtar the opportunity to file an application for new license for this project and confirms that the incumbent preference will apply in any licensing proceedings that ensue. In the rehearing order, the Commission waived those parts of 18 CFR 16.24(a)(2) and 16.25(a) that would otherwise bar Domtar from filing an application in response to this notice.

⁴ 99 FERC ¶ 61,276.

The licensee is required to make available certain information described in section 16.7 of the Commission's regulations. Such information is available from the licensee at Domtar Industries, Inc., Woodland Mill, 144 Main Street, Baileyville, Maine 04694.

A potential applicant that files a notice of intent and pre-application document within 90 days from the date of issuance of this notice: (1) May apply for a license under part I of the FPA and part 4 (except section 4.38) of the Commission's regulations within 36 months of the date on which it files its notice; ⁵ and (2) must comply with the requirements of section 16.8 of the Commission's regulations.

⁵ The Commission's regulation requires license applications to be filed within 18 months of the date a license applicant files its notice of intent. However, because the Commission's Integrated Licensing Process calls for a three year pre-application process, section 16.25(b)(1) is extended for this project.

Magalie R. Salas,
Secretary.

[FR Doc. E5-7938 Filed 12-27-05; 8:45 am]

BILLING CODE 6717-01-P